DEPARTMENT OF THE INTERIOR

Bureau of Land Management

[(NV-020-1430-EQ)] [N-12640, N-74312]

Termination of Segregative Effect, and Opening Order for a Portion of Airport Lease N-12640, Nevada

AGENCY: Bureau of Land Management, Interior.

SUMMARY: This action terminates the segregation in effect on a portion of Airport Lease N-12640. The land will be opened to the operation of the public land laws, including location and entry under the mining laws, subject to valid existing rights.

EFFECTIVE DATE: May 11, 2001.

FOR FURTHER INFORMATION CONTACT: Mary Figarelle, Realty Specialist, Winemucca Field Office, 5100 E. Winnemucca Boulevard, Winnemucca, Nevada 89445 or call (775) 623-1500.

SUPPLEMENTARY INFORMATION: The segregative effect for Airport Lease N-12640, also known as the Empire Airport, was made on March 10, 1982. The public lands affected by the above segregative actions, are described as follows:

Mount Diablo Meridian, Nevada

T.31 N., R. 23 E.,

Sec. 10: SE¼; NW¼, W½SW¼;.

Sec. 11: SW¼; NW¼, W½SW¼;.

Sec. 15: NE¼NE¼:

Totaling 320 acres more or less in Washoe County.

The segregation was made pursuant to the Act of May 24, 1928 (49 U.S.C. 211-214) as amended by the Act of August 16, 1941 (55 Stat. 621).

On March 6, 2001, prior to the relinquishment by the original Lessees, an application for a Public Airport Lease was submitted by the U.S. Gypsum Company for a portion of the original 320 acres segregated under Airport Lease N-12640. This application was serialized as Public Airport Lease Application N-74312. Public Airport Application N-74312 proposed to encumber only 75 acres of the original 320 acres of public lands segregated for airport purposes, and would encompass all of the existing facilities.

On March 17, 2001, the original Lessees (Elwood and Wanda Heiss) voluntarily relinquished Public Airport Lease N-12640.

The segregative effect is hereby terminated for all public lands encumbered by Public Airport Lease N-12640, except those portions of the following described lands, which were applied for and will remain segregated under Public Airport Lease N-74312:

Mount Diablo Meridian, Nevada

T. 31 N., R. 23 E.,

Sec. 10: SE;

Sec. 11: SW¼NW¼, NW¼SW¼, NW¼SW¼SW¼;

Sec. 15: NE¼NE¼.

The portion of public land that continues to remain under segregation is further described as: The existing north-south runway which is approximately 4,270′ long by 200′ wide on either side of the runway centerline and totals approximately 39.2 acres, the existing east-west runway which is approximately 3,420′ long by 200′ wide on either side of the runway centerline and totals approximately 31.4 acres, and the existing displaced threshold which is approximately 400′ long by 470′ wide and totals approximately 4.3 acres. Totaling approximately 75 acres more or less in Washoe County.

At 9 a.m. on May 11, 2001, the land encumbered by Airport Lease N-12640, except the above described lands which will remain segregated under Public Airport Lease N-74312, will be opened to location and entry under the United States mining laws, subject to valid existing rights, the provisions of existing withdrawals, other segregation of record, and the requirements of applicable law. All valid applications received at or prior to 9 a.m. May 11, 2001 shall be considered as simultaneously filed at that time. Those received thereafter shall be considered in the order of filing. Appropriation of any of the land described in this order under the general mining laws prior to the date and time of restoration is unauthorized. Any such attempted adverse possession under 30 U.S.C. 38 (1988), shall vest no rights against the United States. Acts required to establish a location and to initiate a right of possession are governed by State law where not in conflict with Federal law. The Bureau of land management will not intervene in disputes between rival locators over possessory rights since Congress has provided for such determinations in local courts.

Dated: March 26, 2001.
Terry A. Reed,
Field Manager, Winnemucca.

[FR Doc. 01-8966 Filed 4-10-01; 8:45 am]

BILLING CODE 4310-HC-P